DEPARTMENT OF THE INTERIOR

National Park Service

Notice of Meeting

AGENCY: National Park Service, U.S. Department of the Interior.

ACTION: Notice of meeting.

SUMMARY: Notice is hereby given in accordance with the Federal Advisory Commission Act and 36 CFR Part 65 that a telephonic conference call of the Landmarks Committee of the National Park System Advisory Board will be held beginning at 1 p.m. on March 20, 2006.

DATES: March 20, 2006.

To Participate in Conference Call: Call 866-772-1693, and use password 9667678.

FOR FURTHER INFORMATION CONTACT: Patricia Henry, National Historic Landmarks Program, National Park Service, 1849 C Street, NW., (2280), Washington, DC 20240; Telephone (202) 354-2216.

SUPPLEMENTARY INFORMATION: The purpose of this conference call of the Landmarks Committee of the National Park System Advisory Board is to evaluate a draft Statement of Significance relating to the proposed Captain John Smith Chesapeake National Historic Watertrail, and to render an opinion about the proposed watertrail's historical significance for consideration by the National Park System Advisory Board at their subsequent meeting, March 21-22, 2006, in Jacksonville, Florida. The members of the National Landmarks Committee are:

Mr. Larry E. Rivers, Ph.D., Chair

Mr. James M. Allan, Ph.D.

Mr. Cary Carson, Ph.D.

Ms. Mary Werner DeNadai, FAIA

Ms. Alferdteen Brown Harrison, Ph.D.

Mr. E.L. Roy Hunt, J.D., Professor Emeritus

Mr. Ronald James

Mr. William J. Murtagh, Ph.D.

Mr. William D. Seale, Ph.D.

Ms. Jo Anne Van Tilburg, Ph.D.

The meeting will be open to the public. Pursuant to 36 CFR Part 65, any member of the public may file for consideration by the National Park System Advisory Board and its Landmarks Committee written comments concerning National Historic Landmarks nominations, amendments to existing designations, proposals for withdrawal of designation, or National Historic Trail Statements of Significance.

Comments should be submitted to John W. Roberts, Acting Chief, National Historic Landmarks Program, National Park Service, 1849 C Street, NW., (2280); Washington, DC 20240.

Dated: January 17, 2006.
John W. Roberts,
Acting Chief, National Historic Landmarks Program; National Park Service.

[FR Doc. 06-581 Filed 1-19-06; 8:45 am]

BILLING CODE 4312-51-P